DEPARTMENT OF COMMERCE

International Trade Administration

[A-570-182]

Thermoformed Molded Fiber Products From the People's Republic of China: Correction and Amended Preliminary Determination of Sales at Less Than Fair Value

AGENCY: Enforcement and Compliance, International Trade Administration, Department of Commerce.

SUMMARY: The U.S. Department of Commerce (Commerce) is amending the preliminary determination in the less-than-fair-value (LTFV) investigation of thermoformed molded fiber products (molded fiber products) from the People's Republic of China (China) to correct certain significant ministerial errors. This notice also corrects a typographical error in the Harmonized Tariff Schedule of the United States (HTSUS) subheadings included in the scope of the investigation.

DATES: Applicable June 11, 2025.

FOR FURTHER INFORMATION CONTACT: Dennis McClure or Matthew Lipka, AD/CVD Operations, Office VIII, Enforcement and Compliance, International Trade Administration, U.S. Department of Commerce, 1401 Constitution Avenue NW, Washington, DC 20230; telephone: (202) 482-5973 or (202) 482-7976, respectively.

SUPPLEMENTARY INFORMATION:

Background

On May 12, 2025, Commerce published in the Federal Register the Preliminary Determination in the LTFV investigation of molded fiber products from China.¹ On May 12, 2025, separate rate applicants, Shaoneng Group Guangdong Luzhou Eco Technology Co., Ltd. (Eco Technology) and Shaoneng Group Luzhou Eco (Xinfeng) Technology Co., Ltd. alleged that Commerce made certain ministerial errors in its Preliminary Determination.² On May 12, 2025, mandatory respondent Zhejiang Zhongxin Environmental Protection Technology Group Co., Ltd. (Zhejiang Zhongxin) also submitted ministerial error comments.³ On May 15 and 19, 2025, two additional separate rate applicants submitted comments concerning their combination rates which we will consider in the final determination.⁴

¹ See Thermoformed Molded Fiber Products From the People's Republic of China: Preliminary Affirmative Determination of Sales at Less Than Fair Value, Postponement of Final Determination and Extension of Provisional Measures, 90 FR 20147 (May 12, 2025) (Preliminary Determination), and accompanying Preliminary Decision Memorandum (PDM).

² See Eco Technology's Letter, “Request to Correct Significant Ministerial Error,” dated May 12, 2025 (Eco Technology's ME Allegation); see also Xinfeng's Letter, “Request to Correct Significant Ministerial Error,” dated May 12, 2025 (Xinfeng's ME Allegation).

³ See Zhejiang Zhongxin's Letter, “Ministerial Error Comments for the Preliminary Determination,” dated May 12, 2025 (Zhejiang Zhongxin's ME Allegation). In the Preliminary Determination, Commerce preliminarily determined that the mandatory respondent Zhejiang Zhongxin is affiliated with the following companies and treated these companies as a single entity: (1) Chongzuo Zhongxin Environmental Protection Technology Co., Ltd.; (2) Guangxi Huabao Fiber Products Co,. Ltd.; (3) Jinhua Zhongsheng Fiber Products Co., Ltd.; and (4) Hangzhou Ganzhejun Environmental Protection Technology Co., Ltd. (collectively, the Zhongxin Group).

⁴ See Wenzhou Keyi Environmental Protection Tableware Co., Ltd.'s Letter, “Request to Correct,” dated May 15, 2025; see also Fujian Lvwei Environmental Protection Tableware Co., Ltd.'s Letter, “Request to Correct,” dated May 19, 2025.

Period of Investigation

The period of investigation is April 1, 2024, through September 30, 2024.

Correction

In the Federal Register of May 12, 2025, in FR Doc 2025-08304, on page 20152 in the third column, correct the first sentence of the last paragraph as follows:

Thermoformed molded fiber products are classified under subheadings 4823.70.0020 and 4823.70.0040, Harmonized Tariff Schedule of the United States (HTSUS).

For a full description of the scope of these investigations, revised to reflect the correction specified above, see the appendix to this notice.

Legal Authority

When ministerial errors are alleged with respect to preliminary determinations in LTFV investigations, 19 CFR 351.224(e) provides that Commerce will analyze any allegations received and, if appropriate, correct any significant ministerial error by amending the preliminary determination. A ministerial error is defined in 19 CFR 351.224(f) as “an error in addition, subtraction, or other arithmetic function, clerical error resulting from inaccurate copying, duplication, or the like, and any other similar type of unintentional error which the Secretary considers ministerial.” A significant ministerial error is defined as a ministerial error, the correction of which, either singly or in combination with other errors, would result in: (1) a change of at least five absolute percentage points in, but not less than 25 percent of, the weighted-average dumping margin calculated in the original (erroneous) preliminary determination; or (2) a difference between a weighted-average dumping margin of zero or de minimis and a weighted-average dumping margin of greater than de minimis or vice versa.⁵

⁵ See 19 CFR 351.224(g).

Analysis of Ministerial Error Allegations

Eco Technology and Xinfeng allege that Commerce made ministerial errors in identifying certain of their producers in the exporter-producer combinations listed in the Preliminary Determination notice (i.e., Commerce omitted certain producers). The Zhongxin Group alleges that Commerce failed to convert the electricity surrogate value that was used in the calculation of normal value (NV).

We agree with the allegations regarding the producers' names and include the omitted export-producer combinations for the exporters Eco Technology and Xinfeng in the rate table below. We also agree with the Zhongxin Group's allegation that we did not convert the electricity surrogate value used in the calculation of NV. Additionally, because in the Preliminary Determination the rate calculated for non-individually examined separate rate companies was based on the weighted-average of the dumping margins of the two mandatory respondents, including the Zhongxin Group, we find it necessary to recalculate this rate using the same methodology as in the Preliminary Determination,⁶ but with Zhongxin Group's revised rate. The changes to Zhejiang Zhongxin's rate and the rate applied to non-individually examined separate rate companies are significant because the corrections result in a change of at least five percentage points, but not less than 25 percent of the weighted average dumping margins, calculated for the Zhongxin Group and separate rate respondents, respectively. For details regarding these decisions, see the Ministerial Error Memorandum.⁷

⁶ See Preliminary Determination, 90 FR at 20148.

⁷ See Memorandum, “Allegations of Ministerial Errors in the Preliminary Determination,” dated concurrently with this notice (Ministerial Error Memorandum).

Amended Preliminary Determination

Commerce has amended its Preliminary Determination to include the exporter-producer combinations for the exporters Eco Technology and Xinfeng that were inadvertently omitted from the Preliminary Determination. We are also amending the weighted-average dumping margin and cash deposit rate determined in the Preliminary Determination for the Zhongxin Group and the non-selected companies receiving a separate rate. Additionally, Commerce has corroborated the China-wide entity rate using the component method because we were unable to corroborate the highest dumping margin alleged in the petition using Zhongxin Group's individual sale dumping margins.⁸ In applying the component method, we compared the NV and net U.S. price underlying the petition rate to the range of the preliminary NV and net U.S. price calculated for this investigation. We were able to corroborate the margin of 477.97 percent alleged in the Petition using this component approach.⁹ Specifically, we find that the NV and net U.S. price underlying these margins are within the range of the highest preliminary NV and lowest net U.S. price calculated for Zhongxin Group. Accordingly, because we corroborated the Petition rate to the extent practicable within the meaning of section 776(c) of Tariff Act of 1930, as amended (the Act), we preliminarily find the 477.97 percent rate to be both reliable and relevant and, accordingly, that it has probative value. Therefore, we continue to assign this rate as advsere facts available to the China-wide entity.

⁸ See Memorandum, “Amended Preliminary Analysis,” dated concurrently with this memorandum for the corroboration discussion.

⁹ See Preliminary Determination PDM at 29-30; see also Thermoformed Molded Fiber Products from the People's Republic of China and the Socialist Republic of Vietnam: Initiation of Less-Than-Fair-Value Investigations, 89 FR 87551 (November 4, 2024), and accompanying Checklist, “Thermoformed Molded Fiber Products from the People's Republic of China,” dated October 28, 2024, at 7.

Commerce is amending its Preliminary Determination by assigning the following weighted-average dumping margins to the exporter-producer combinations listed below:

Exporter | Producer | Estimated weighted-average dumping margin (percent) | Cash deposit rate (adjusted for subsidy offsets) (percent)
Zhejiang Zhongxin Environmental Protection Technology Group Co., Ltd./Chongzuo Zhongxin Environmental Protection Technology Co., Ltd./Guangxi Huabao Fiber Products Co., Ltd./Hangzhou Ganzhejun Environmental Protection Technology Co., Ltd./Jinhua Zhongsheng Fiber Products Co., Ltd | Zhejiang Zhongxin Environmental Protection Technology Group Co., Ltd./Chongzuo Zhongxin Environmental Protection Technology Co., Ltd./Guangxi Huabao Fiber Products Co., Ltd./Hangzhou Ganzhejun Environmental Protection Technology Co., Ltd./Jinhua Zhongsheng Fiber Products Co., Ltd | 136.54 | 136.27
Xiamen Win Win Bag Co., Ltd | Shandong Yijia Packaging Technology Co., Ltd | 110.30 | 110.16
Anhui Shangjia Environmental Tableware Co., Ltd | Anhui Shangjia Environmental Tableware Co., Ltd | 110.30 | 110.16
Shandong Tranlin Straw New Environmental Technology Joint Stock Company Limited | Shandong Tranlin Straw New Environmental | 110.30 | 110.16
Shandong Teanhe Hongsheng International Trade Co., Ltd | Shandong Tranlin Straw New Environmental | 110.30 | 110.16
Zhejiang Kingsun Eco-Pack Co. Ltd | Zhejiang Kingsun Eco-Pack Co. Ltd | 110.30 | 110.16
Zhejiang Kingsun Eco-Pack Co. Ltd | Guangxi Jiefeng Biological Technology Co., Ltd | 110.30 | 110.16
Guangxi Jiefeng Biological Technology Co., Ltd | Guangxi Jiefeng Biological Technology Co., Ltd | 110.30 | 110.16
Guangxi Fineshine ECO Technology Co., Ltd | Guangxi Fineshine ECO Technology Co., Ltd | 110.30 | 110.16
Wenzhou Sanxing Eco-Friendly Packaging Co., Ltd | Wenzhou Sanxing Eco-Friendly Packaging Co., Ltd | 110.30 | 110.16
Guangdong Shaoneng Group Luzhou Technology Development Co., Ltd | Shaoneng Group Luzhou Eco (Xinfeng) Technology Co., Ltd | 110.30 | 110.16
Guangdong Shaoneng Group Luzhou Technology Development Co., Ltd | Shaoneng Group Guangdong Luzhou Eco Technology Co., Ltd | 110.30 | 110.16
Shaoneng Group Luzhou Eco (Xinfeng) Technology Co., Ltd | Shaoneng Group Luzhou Eco (Xinfeng) Technology Co., Ltd | 110.30 | 110.16
Shaoneng Group Luzhou Eco (Xinfeng) Technology Co., Ltd | Shaoneng Group Guangdong Luzhou Eco Technology Co., Ltd | 110.30 | 110.16
Shaoneng Group Luzhou Eco (Xinfeng) Technology Co., Ltd | Longyan Green Olive Co., Ltd | 110.30 | 110.16
Shaoneng Group Luzhou Eco (Xinfeng) Technology Co., Ltd | Hebei Daoxiang Eco Technology Co., Ltd | 110.30 | 110.16
Shaoneng Group Luzhou Eco (Xinfeng) Technology Co., Ltd | Guangxi Fineshine ECO Technology Co., Ltd | 110.30 | 110.16
Shaoneng Group Luzhou Eco (Xinfeng) Technology Co., Ltd | Zhejiang Fuchang Environmental Protection Technology Co., Ltd | 110.30 | 110.16
Shaoneng Group Guangdong Luzhou Eco Technology Co., Ltd | Shaoneng Group Guangdong Luzhou Eco Technology Co., Ltd | 110.30 | 110.16
Shaoneng Group Guangdong Luzhou Eco Technology Co., Ltd | Cangzhou Jinda Packaging Products Co., Ltd | 110.30 | 110.16
Shaoneng Group Guangdong Luzhou Eco Technology Co., Ltd | Minjie Eco-Machinery Technology Co., Ltd | 110.30 | 110.16
Shaoneng Group Guangdong Luzhou Eco Technology Co., Ltd | Shaoneng Group Luzhou Eco (XinFeng) Technology Co., Ltd | 110.30 | 110.16
Shaoneng Group Guangdong Luzhou Eco Technology Co., Ltd | Hainan Huandu Biotechnology Co., Ltd | 110.30 | 110.16
Shaoneng Group Guangdong Luzhou Eco Technology Co., Ltd | Hebei Daoxiang Eco Technology Co., Ltd | 110.30 | 110.16
Shaoneng Group Guangdong Luzhou Eco Technology Co., Ltd | HuiZhou Gold-Superman Packing Material Co., Ltd | 110.30 | 110.16
Shaoneng Group Guangdong Luzhou Eco Technology Co., Ltd | Nanxiong Taihua Plastic Products Co., Ltd | 110.30 | 110.16
Shaoneng Group Guangdong Luzhou Eco Technology Co., Ltd | NAN Xiong Yangxin ECO Packing Co., Ltd | 110.30 | 110.16
Shaoneng Group Guangdong Luzhou Eco Technology Co., Ltd | Shandong Qizheng Packaging Co., Ltd | 110.30 | 110.16
Shaoneng Group Guangdong Luzhou Eco Technology Co., Ltd | Zhejiang Fuchang Environmental Protection Technology Co., Ltd | 110.30 | 110.16
Shaoneng Group Guangdong Luzhou Eco Technology Co., Ltd | Jiangmen Zhuoyu Technology Co., Ltd | 110.30 | 110.16
Shaoneng Group Guangdong Luzhou Eco Technology Co., Ltd | Dongguan Lvluo Environmental Protection Technology Co., Ltd | 110.30 | 110.16
Shaoneng Group Guangdong Luzhou Eco Technology Co., Ltd | Nanxiong Aerospace Health Technology Co., Ltd | 110.30 | 110.16
Shaoneng Group Guangdong Luzhou Eco Technology Co., Ltd | Purpus Packaging Technology (Dongguan) Co., Ltd | 110.30 | 110.16
Shaoneng Group Guangdong Luzhou Eco Technology Co., Ltd | Shantou Jinshida Supersonic Machine Co., Ltd | 110.30 | 110.16
Clean Packaging Technology (Shenzhen) Co., Ltd | GreenDoer Advanced Materials, Co., Ltd | 110.30 | 110.16
Ningbo HomeLink Eco-itech Co., Ltd | Zhejiang Jiadebao Technology Co., Ltd | 110.30 | 110.16
Ningbo HomeLink Eco-itech Co., Ltd | Guangxi Ecolink Technology Co., Ltd | 110.30 | 110.16
Guangxi Ecolink Technology Co., Ltd | Guangxi Ecolink Technology Co., Ltd | 110.30 | 110.16
Shandong Shengquan New Materials Co., Ltd | Shandong Shengquan New Materials Co., Ltd | 110.30 | 110.16
Jiangsu Jinsheng Environmental Protection Tableware Co., Ltd | Jiangsu Jinsheng Environmental Protection Tableware Co., Ltd | 110.30 | 110.16
Hubei Wheat-Straw Environmental Technologies Co., Ltd | Hubei Wheat-Straw Environmental Technologies Co., Ltd | 110.30 | 110.16
Shandong Lvhe Packaging Co., Ltd | Shandong Tranlin Straw New Environmental Technology Joint Stock Company Limited | 110.30 | 110.16
Yibin YUTO Eco Packaging Technology Co., Ltd | Yibin YUTO Eco Packaging Technology Co., Ltd | 110.30 | 110.16
HaiKou YUTO Eco Technology Co., Ltd | HaiKou YUTO Eco Technology Co., Ltd | 110.30 | 110.16
Xiamen Target Trade Co., Ltd | GeoTegrity Eco Pack (Xiamen) Co., Ltd | 110.30 | 110.16
Guangzhou Jiurong Packaging Co., Ltd | Guandong Fenghua Paper Co., Ltd | 110.30 | 110.16
Guangzhou Jiurong Packaging Co., Ltd | Zhejiang Guangju Paper Products Co., Ltd | 110.30 | 110.16
Guangzhou Jiurong Packaging Co., Ltd | Shaoneng Group Guangdong Luzhou Eco Technology Co., Ltd | 110.30 | 110.16
Guangzhou Jiurong Packaging Co., Ltd | Shaoneng Group Luzhou (Xinfeng) Technology Co., Ltd | 110.30 | 110.16
Guangdong Huilin Packaging Technology Group Co., Ltd | Shenzhen Pinchuang Supply Chain Co., Ltd | 110.30 | 110.16
Guangdong Huilin Packaging Technology Group Co., Ltd | Pinchuang Fabric Products Factory | 110.30 | 110.16
Fujian Lvwei Environmental Protection Tableware Co., Ltd | Fujian Qingshan Paper Industry Co., Ltd | 110.30 | 110.16
Fujian Lvwei Environmental Protection Tableware Co., Ltd | Suzhou Pchem New Energy Technology Co., Ltd | 110.30 | 110.16
Fujian Lvwei Environmental Protection Tableware Co., Ltd | Positive energy machinery processing plant | 110.30 | 110.16
Fujian Lvwei Environmental Protection Tableware Co., Ltd | Yangzhou Cannaan Mesh Belt Co., Ltd | 110.30 | 110.16
Fujian Lvwei Environmental Protection Tableware Co., Ltd | Guangxi Boguan Environmental Products Co., Ltd | 110.30 | 110.16
Fujian Lvwei Environmental Protection Tableware Co., Ltd | Guangxi Liantuo Trading Co., Ltd | 110.30 | 110.16
Fujian Lvwei Environmental Protection Tableware Co., Ltd | Shanghai Tingli Environmental Protection Technology Co., Ltd | 110.30 | 110.16
Fujian Lvwei Environmental Protection Tableware Co., Ltd | Guangdong Liangshi Industrial Materials Co., Ltd | 110.30 | 110.16
Fujian Lvwei Environmental Protection Tableware Co., Ltd | Wenzhou Honglian Packaging Container Co., Ltd | 110.30 | 110.16
Fujian Lvwei Environmental Protection Tableware Co., Ltd | Zhenghe County Fenghua Packaging Co., Ltd | 110.30 | 110.16
Wenzhou Keyi Environmental Protection Tableware Co., Ltd | Fujian Qingshan Paper Industry Co., Ltd | 110.30 | 110.16
Wenzhou Keyi Environmental Protection Tableware Co., Ltd | Suzhou Pchem New Energy Technology Co., Ltd | 110.30 | 110.16
Wenzhou Keyi Environmental Protection Tableware Co., Ltd | Wenzhou Shunfu Packaging Co., Ltd | 110.30 | 110.16
Wenzhou Keyi Environmental Protection Tableware Co., Ltd | Wenzhou Xinao Energy Development Co. Ltd | 110.30 | 110.16
Wenzhou Keyi Environmental Protection Tableware Co., Ltd | Ningbo Lufeng Logistics Co., Ltd | 110.30 | 110.16
Wenzhou Keyi Environmental Protection Tableware Co., Ltd | Positive energy machinery processing plant | 110.30 | 110.16
Wenzhou Keyi Environmental Protection Tableware Co., Ltd | Yangzhou Cannaan Mesh Belt Co., Ltd | 110.30 | 110.16
Wenzhou Keyi Environmental Protection Tableware Co., Ltd | Guangxi Boguan Environmental Products Co., Ltd | 110.30 | 110.16
Wenzhou Keyi Environmental Protection Tableware Co., Ltd | Guangxi Liantuo Trading Co., Ltd | 110.30 | 110.16
Wenzhou Keyi Environmental Protection Tableware Co., Ltd | Wenzhou Yongdian Technology Co., Ltd | 110.30 | 110.16
Wenzhou Keyi Environmental Protection Tableware Co., Ltd | Wandu packaging products factory | 110.30 | 110.16
Wenzhou Keyi Environmental Protection Tableware Co., Ltd | Fujian Qingshan Paper Industry Co., Ltd | 110.30 | 110.16
Wenzhou Keyi Environmental Protection Tableware Co., Ltd | Wenzhou Honglian Packaging Container Co., Ltd | 110.30 | 110.16
Wenzhou Keyi Environmental Protection Tableware Co., Ltd | Shanghai Tingli Environmental Protection Technology Co., Ltd | 110.30 | 110.16
Wenzhou Keyi Environmental Protection Tableware Co., Ltd | Guangdong Liangshi Industrial Materials Co., Ltd | 110.30 | 110.16
Fuzhou Hengli Paper Co., Ltd | Shaoneng Group Guangdong Luzhou Eco Technology Co., Ltd | 110.30 | 110.16
Fuzhou Hengli Paper Co., Ltd | Shenzhen Yike Environmental Resources Co., Ltd | 110.30 | 110.16
Sabert Asia Holdings Limited | Sabert (Zhongshan) Limited | 110.30 | 110.16
China-wide Entity |  | * 477.97 | * 477.97
* This rate is based on facts available with adverse inferences.

Amended Cash Deposits and Suspension of Liquidation

The collection of cash deposits and suspension of liquidation will be revised for the exporter-producer combinations listed in the table above, in accordance with sections 733(d) and (f) of the Act, and 19 CFR 351.224. Because the rates are decreasing from the Preliminary Determination, the amended cash deposit rates will be effective retroactively to May 12, 2025, the date of publication of the Preliminary Determination. Parties will be notified of this determination, in accordance with sections 733(d) and (f) of the Act.

U.S. International Trade Commission (ITC) Notification

In accordance with section 733(f) of the Act, we will notify the ITC of our amended preliminary determination.

Notification to Interested Parties

This amended preliminary determination is issued and published in accordance with sections 733(f) and 777(i)(1) of the Act, and 19 CFR 351.224(e).

Dated: June 5, 2025.
Christopher Abbott,
Deputy Assistant Secretary for Policy and Negotiations, performing the non-exclusive functions and duties of the Assistant Secretary for Enforcement and Compliance.

Appendix

Scope of the Investigation

The merchandise subject to this investigation consists of thermoformed molded fiber products regardless of shape, form, function, fiber source, or finish. Thermoformed molded fiber products are formed with cellulose fibers, thermoformed using one or more heated molds, and dried/cured in the mold.

Thermoformed molded fiber products include, but are not limited to, plates, bowls, clamshells, trays, lids, food or foodservice contact packaging, and consumer or other product packaging.

Thermoformed molded fiber products are relatively dense, with a typical fiber density above 0.5 grams per cubic centimeter, and are generally characterized by relatively smooth surfaces. They may be derived from any virgin or recycled cellulose fiber source (including, but not limited to, those sourced from wood, woody crops, agricultural crops/byproducts/residue, and agricultural/industrial/other waste). They may have any weight, shape, dimensionality, design, or size, and may be bleached, unbleached, dyed, colored, or printed. They may include ingredients, additives, or chemistries to enhance functionality including, but not limited to, anti-microbial, anti-fungal, anti-bacterial, heat/flame resistant, hydrophobic, oleophobic, absorbent, or adsorbent. Thermoformed molded fiber products may also be subject to other processing or treatments, including, but not limited to, hot or after pressing, die-cutting, punching, trimming, padding, perforating, printing, labeling, dying, coloring, coating, laminating, embossing, debossing, repacking, or denesting. Thermoformed molded fiber products subject to this investigation may also have additional design features, including, but not limited to, tab closures, venting, channeling, or stiffening.

Thermoformed molded fiber products remain covered by the scope of this investigation if the subject product is encased by exterior packaging. They also remain covered by the scope of this investigation whether imported alone, or in any combination of subject and non-subject merchandise (e.g., a lid or cover of any type packaged with a molded fiber bowl, addition of any items to make the thermoformed molded fiber packaging suitable for end-use such as absorbent pads). When thermoformed molded fiber products are imported in combination with non-subject merchandise, only the thermoformed molded fiber products are subject merchandise.

Also excluded from the scope of this investigation are products covered by the scope of the antidumping and countervailing duty orders on paper plates from People's Republic of China, the Kingdom of Thailand, and the Socialist Republic of Vietnam.

Excluded from the scope of this investigation are thermoformed molded fiber products imported as packaging material that enclose and/or surround non-subject merchandise prepackaged for final sale upon importation into the United States (e.g., molded fiber packaging surrounding a cellular phone).

Thermoformed molded fiber products include thermoformed molded fiber products matching the above description that have been finished, packaged, or otherwise processed in a third country by performing finishing, packaging, or processing that would not otherwise remove the merchandise from the scope of the investigation if performed in the country of manufacture of the thermoformed molded fiber products. Examples of finishing, packaging, or other processing in a third country that would not otherwise remove the merchandise from the scope of the investigation if performed in the country of manufacture of the thermoformed molded fiber products include, but are not limited to, hot or after pressing, die-cutting, punching, trimming, padding, perforating, printing, labeling, dying, coloring, coating, laminating, embossing, debossing, repacking, or denesting.

Thermoformed molded fiber products are classified under subheadings 4823.70.0020 and 4823.70.0040, Harmonized Tariff Schedule of the United States (HTSUS). Imports may also be classified under subheadings 4823.61.0020, 4823.61.0040, 4823.69.0020, 4823.69.0040, 4823.90.1000, HTSUS. References to the HTSUS classification are provided for convenience and customs purposes, and the written description of the merchandise under investigation is dispositive.

[FR Doc. 2025-10631 Filed 6-10-25; 8:45 am]

BILLING CODE 3510-DS-P